DEPARTMENT OF THE INTERIOR

Fish and Wildlife Service

Notice of Issuance of Six Permits for Incidental Take of Threatened and Endangered Species

SUMMARY: Between April 1, 1999, and September 30, 1999, Region 2 of the Fish and Wildlife Service issued six permits for the incidental take of threatened and endangered species, pursuant to section 10(a)(1)(B) of the Endangered Species Act of 1973 (Act), as amended. Of the six permits issued, four are associated with the Balcones Canyonlands Preserve and two are associated with other areas. The other two permits issued are outside of The City of Austin and Travis County, but are within the Southwest Region of the U.S. Fish and Wildlife Service. Copies of the six permits and associated decision documents are available upon request.

ADDRESSES: If you would like copies of any of the above documents, please contact the U.S. Fish and Wildlife Service, Ecological Services, P.O. Box 1306, Albuquerque, New Mexico.

FOR FURTHER INFORMATION CONTACT: Leslie Dierauf, Regional Habitat Conservation Plan Coordinator, at the above address, 505-248-6651.

SUPPLEMENTARY INFORMATION: Section 9 of the Act and Federal Regulation prohibits the “take” of wildlife species listed as threatened or endangered species. Under the Act, the term “take” means to harass, harm, pursue, hunt, shoot, wound, kill, trap, capture, or collect listed wildlife, or to attempt to engage in any such conduct. The Service may, under limited circumstances, issue permits to authorize incidental take, i.e., that is incidental to, and not the purpose of, the carrying out of an otherwise lawful activity. Regulations governing permits for endangered species are at 50 CFR 17.22.

Permittee | Permit No. | Date of issuance
Four Incidental Take Permits Issued Associated With the Balcones Canyonlands Preserve
Tomen Park/Grandview Hills (TX) | PRT-815447 | 08/27/99
Balfour Tract (TX) | TE-003593-0 | 03/31/99
John C. Hunt (TX) | TE-010556-0 | 07/21/99
John M. Caster (TX) | TE-012423-0 | 09/24/99
Four Incidental Take Permits Issued in Other Areas of Region Permittee
Lumbermans Investment Corp. (TX) | PRT-836384 | 09/30/99
Fred P. Stein (TX) | TE-007891-0 | 06/03/99

Thomas L. Bauer,
Regional Director, Region 2, Albuquerque, New Mexico.

[FR Doc. 00-2050 Filed 1-28-00; 8:45 am]

BILLING CODE 4510-55-P